DEPARTMENT OF COMMERCE

Bureau of Industry and Security

Action Affecting Export Privileges; Ghashim Group, Inc.; Mazen Ghashim; MNC Group International, In the Matter of: Ghashim Group, Inc., d.b.a. KZ Results, 3334 Walnut Bend Land, Houston, Texas 77042, and Mazen Ghashim, 10734 Overbrook Lane, Houston, Texas 77042, Respondents, and MNC Group International, Inc., d.b.a. Wearform, d.b.a. Sports Zone, d.b.a. Soccer Zone, 3334 Walnut Bend Lane, Houston, Texas 77042; Related Person

Order Renewing Order Temporarily Denying Export Privileges

Pursuant to Section 766.24 of the Export Administration Regulations (“EAR”),¹ the Bureau of Industry and Security (“BIS”), U.S. Department of Commerce, through its Office of Export Enforcement (“OEE”), has requested that I renew for 180 days an Order temporarily denying the export privileges under the EAR of: Ghashim Group, Inc. doing business as (“d.b.a.”) KZ Results, 3334 Walnut Bend Lane, Houston, Texas 77042 (“Ghashim Group”) and Mazen Ghashim, 10734 Overbrook Lane, Houston, Texas 77042 (hereinafter collectively referred to as the “Respondents”); and related person MNC Group International, Inc. d.b.a. Wearform, d.b.a. Sports Zone, and d.b.a. Soccer Zone, 3334 Walnut Bend Lane, Houston, Texas 77042 (“MNC”).

¹ The EAR, which are currently codified at 15 CFR Parts 730-774 (2005), are issued under the Export Administration Act of 1979, as amended (50 U.S.C. app. 2401-2420) (2000) (the “Act”). From August 21, 1994 through November 12, 2000, the Act was in lapse. During that period, the President, through Executive Order 12,924, which had been extended by successive Presidential Notices, the last of which was August 3, 2000 (3 CFR 200 Comp. 397 (2001)), continued the EAR in effect under the International Emergency Economic Powers Act (50 U.S.C. 1701-1707 (2000)) (“IEEPA”). On November 13, 2000, the Act was reauthorized and it remained in effect through August 20, 2001. Since August 21, 2001, the Act has been in lapse and the President, through Executive Order 13,222 of August 17, 2001 (3 CFR, 2001 Comp. 783 (2002)), as extended by the Notice of August 2, 2005, (70 FR 45,273 (Aug. 5, 2005)), continued the Regulations in effect under the IEEPA.

On April 7, 2005, I found that evidence presented by BIS demonstrated that the Respondents conspired to commit acts that violated the EAR, that such violations had been deliberate and covert, and that there was a strong likelihood of future violations, particularly given the nature of the transactions and the elaborate steps taken by Respondents to avoid detection by the U.S. Government while knowing that their actions were in violation of the EAR. 70 FR 17,645 (Apr. 7, 2005). This finding was based on evidence that indicated that Respondents had conspired with others to cause computers, which are subject to the EAR and controlled for national security and anti-terrorism reasons, to be illegally exported to Syria. The evidence also indicated that, after learning of the EAR requirements governing the export of computers to Syria, Respondents developed and implemented a scheme to avoid these requirements by causing computers to be exported to Syria through the United Arab Emirates with knowledge that violations of the EAR would occur.

I also found that MNC was a Related Person pursuant to 15 CFR 766.23 because it is owned and operated by Mazen Ghashim, who is the President of Ghashim Group, and it is operated out of the same facilities as Ghashim Group. The evidence showed Ghashim and MNC conspired to export garment samples, items that are subject to the EAR, from the United States to Syria without the required BIS export licenses in violation of the Regulations.

BIS believes that all of the facts found in the original Order continue to justify the renewal of the Order, particularly given the nature of the transactions and the steps that have been taken by Respondents to avoid detection by the U.S. Government while knowing their actions were in violation of the EAR. BIS believes that the evidence described in its initial Temporary Denial Order request supports this Order.

Based on the evidence submitted by BIS, I find that renewal of the Order naming Respondents and the Related Person is necessary, in the public interest, to prevent an imminent violation of the EAR. A copy of the request for renewal of this Order was served upon Respondents and the Related Person in accordance with the requirements of 15 CFR 766.24 of the EAR, and no responses were received in opposition to this request within the applicable time period described in that section.

It is therefore ordered:

First, that the Respondents, Ghashim Group, Inc. D.B.A. KZ Results, 3334 Walnut Bend Lane, Houston, Texas 77042, its successors or assigns, and when acting for or on behalf of Ghashim Group, Inc., its officers, representatives, agents, or employees; Mazen Ghashim 10734 Overbrook Lane, Houston, Texas 77042, and, when acting for or on behalf of Mazen Ghashim, his representatives, agents, assigns or employees; and Related Person MNC Group International, Inc. d.b.a. Wearform, d.b.a. Sports Zone, and d.b.a. Soccer Zone, 3334 Walnut Bend Lane, Houston, Texas 77042, its successors or assigns, and when acting for or on behalf of MNC Group International, Inc., its officers, representatives, agents, or employees (collectively, the “Denied Persons”), may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaciton involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the ear that has been or will be exported from the United States, including financing or other support activities related to a transaction whereby the Denied Persons acquire or attempt to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) and Section 766.23(c) of the EAR, the Respondents and the Related Person, respectively, may, at any time, appeal this Order by filing a full written statement in support of the appeal with the Office of the Administrative Law Judge, U.S. Coast Guard ALJ Docketing Center, 40 South Gay Street, Baltimore, Maryland 21202-4022.

The Order becomes effective on October 3, 2005, and shall remain in effect for 180 days until and including March 31, 2006. In accordance with the provisions of Section 766.24(d) and Section 766.23(c) of the EAR, BIS may seek renewal of this Order by filing a written request not later than 20 days before the expiration date, on or before March 11, 2006, with the Assistant Secretary for Export Enforcement. The Respondents and the Related Person may oppose a request to renew this Order by filing a written submission with the Assistant Secretary for Export Enforcement, which must be received not later than seven days before the expiration date of the Order, on or before March 24, 2006.

A copy of this Order shall be served on the Respondents and the Related Person, and shall be published in the Federal Register.

Entered this 28th day of September, 2005.
Thomas W. Andrukonis,
Acting Deputy Assistant Secretary of Commerce for Export Enforcement.

[FR Doc. 05-19895 Filed 10-4-05; 8:45 am]

BILLING CODE 3510-DT-M